DEPARTMENT OF THE INTERIOR

Bureau of Land Management

[BLM_UT_FRN_MO4500172964]

Notice of Availability of the Draft Environmental Impact Statement for the Cross-Tie 500-kV Transmission Project in Beaver, Juab, and Millard Counties, Utah, and Lincoln, Nye, and White Pine Counties, Nevada

AGENCY: Bureau of Land Management, Interior.

ACTION: Notice of availability.

SUMMARY: In compliance with the National Environmental Policy Act of 1969, as amended (NEPA), and the Federal Land Policy and Management Act of 1976, as amended (FLPMA), the Bureau of Land Management (BLM) announces the availability of the Draft Environmental Impact Statement (EIS) for the Cross-Tie 500-kilovolt (kV) Transmission Project (Cross-Tie Project or Project).

DATES: To afford the BLM the opportunity to consider comments in the Final EIS, please ensure that the BLM receives your comments within 45 days following the date the Environmental Protection Agency (EPA) publishes its Notice of Availability (NOA) of the Draft EIS in the Federal Register. The EPA usually publishes its NOAs on Fridays.

ADDRESSES: The Draft EIS is available for review on the BLM's ePlanning Project website at https://bit.ly/ePlanningCrossTie.

Written comments related to the Cross-Tie Project may be submitted by any of the following methods:

• Email: blm_ut_fm_cross-tie_project@blm.gov.

• Mail: BLM Fillmore Field Office, ATTN: Cross-Tie Project, Bureau of Land Management, Fillmore Field Office, 95 East 500 North, Fillmore, Utah 84631.

Verbal comments related to the Cross-Tie Project may be submitted via telephone hotline at 1-888-674-0962. Documents pertinent to this proposal may be examined online at the ePlanning website noted above and at the following office locations:

• BLM Bristlecone Field Office and Ely District Office, 702 North Industrial Way, Ely, Nevada 89301;

• BLM Caliente Field Office, 1400 Front Street, Caliente, Nevada 89008;

• BLM Cedar City Field Office and Color Country District Office, 176 East D.L. Sargent Drive, Cedar City, Utah 84721;

• BLM Fillmore Field Office, 95 East 500 North, Fillmore, Utah 84631;

• BLM West Desert District Office, 491 North John Glenn Road, Salt Lake City, Utah 84116;

• Forest Service Humboldt-Toiyabe National Forest Ely Ranger District, 825 Avenue E, Ely, Nevada 89301; and

• Forest Service Humboldt-Toiyabe National Forest Supervisor's Office, 1200 Franklin Way, Sparks, Nevada 89431.

FOR FURTHER INFORMATION CONTACT: Clara Stevens, Project Manager, address 95 East 500 North, Fillmore, Utah 84631; email blm_ut_fm_cross-tie_project@blm.gov; telephone 435-743-3119. Individuals in the United States who are deaf, deafblind, hard of hearing, or have a speech disability may dial 711 (TTY, TDD, or TeleBraille) to access telecommunications relay services for contacting Ms. Stevens. Individuals outside the United States should use the relay services offered within their country to make international calls to the point-of-contact in the United States.

SUPPLEMENTARY INFORMATION: The applicant, TransCanyon, LLC (TransCanyon), submitted an Application for Transportation and Utility Systems and Facilities on Federal Lands (Standard Form 299) and a draft Plan of Development to the BLM and U.S. Department of Agriculture (USDA) Forest Service (Forest Service) for a permanent facility right-of-way (ROW) and a special use permit (SUP) for the construction, operation and maintenance (O&M), and decommissioning of the Cross-Tie Project.

The BLM Fillmore Field Office, in coordination with cooperating agencies, prepared a Draft EIS to analyze potential impacts from the Proposed Action and alternatives. New permanent and temporary land use authorizations would be required to construct, operate, and maintain, and decommission Project components. In Utah, the Proposed Action would cross approximately 98 miles of BLM administered land, 14 miles of state land, and 26 miles of private land for a total of 138 miles. In Nevada, the Proposed Action would cross 63 miles of BLM administered land, eight miles of Forest Service administered land, four miles of private land, and one mile of state land for a total of 76 miles. TransCanyon would obtain these land use authorizations through a ROW grant from the BLM, a SUP from the Forest Service, and easements or fee purchases for non-federal lands.

Purpose and Need for the Action

The purpose and need of the BLM federal action is to respond to the ROW application submitted by TransCanyon for the construction, O&M, and decommissioning of the proposed 500-kV transmission line on BLM-administered land between the Clover Substation in central Utah and the Robinson Summit Substation in east-central Nevada, in compliance with Title V of FLPMA (43 U.S.C. 1761-1771), the BLM's ROW regulations at 43 CFR part 2800, and other applicable federal laws and policies to grant ROWs over public land.

The purpose and need of the Forest Service federal action is to respond to an application for a SUP submitted by TransCanyon for the construction, O&M, and decommissioning of the proposed 500-kV transmission line on National Forest System land in east-central Nevada in compliance with FLPMA and the National Forest Management Act (16 U.S.C. 1601-1614), as well as the Humboldt National Forest Land and Resource Management Plan, as amended, which provides forest-wide standards and guidelines for management of National Forest System land crossed by the Project. The SUP application and authorization process objectives are to (1) authorize use and occupy National Forest System land that is in the public interest while avoiding and minimizing adverse effects and (2) ensure conformance with existing land and resource management plans.

For both agencies, FLPMA also provides the BLM and the Forest Service with discretionary authority to authorize use (i.e., via a ROW and a SUP, respectively) of land they administer, taking into consideration impacts on natural and cultural resources. In doing so, the BLM and Forest Service both must endeavor “to minimize damage to scenic and esthetic values and fish and wildlife habitat and otherwise protect the environment” through avoidance or mitigation (FLPMA Title V).

Alternatives

The BLM has analyzed six alternatives in detail, including the Proposed Action, four action alternatives, and the No Action Alternative. The Draft EIS analysis addresses the alternatives in two different ways. Within the Draft EIS, there is a comparison of each alternative to the comparable segment of the Proposed Action it replaces (segment specific), and there is also a comparison of start-to-finish alternatives. The start-to-finish alternatives are referred to as the Modified Proposed Action with Alternative A, B, C, or D. The segment alternatives can be substituted into a start-to-finish route in a variety of combinations to create a modified Proposed Action.

Under the No Action Alternative, the BLM would not approve a ROW grant and the Forest Service would not approve a SUP to construct, O&M, and decommission the Project. The Project infrastructure and facilities would not be built, and existing land uses and present activities in the area would continue consistent with the applicable land use plan governing management of the affected lands.

The Proposed Action, which is TransCanyon's desired alternative, includes an approximately 214-mile, 1,500-megawatt, 500-kV high-voltage alternating current (HVAC) overhead transmission line that would be constructed between the Clover Substation in central Utah and the Robinson Summit Substation in east-central Nevada. The Project would be situated within a 250-foot-wide ROW/SUP, 125 feet from centerline, which would maintain separation from other existing extra-high-voltage transmission lines as required by the North American Electric Reliability Corporation. The Project facilities would include a 500-kV HVAC overhead transmission line, new substation equipment at the Clover Substation in central Utah (within the existing substation footprint) and at the Robinson Summit Substation in east-central Nevada (within a 46-acre proposed expansion), regeneration stations near the line for the fiber optic ground wire, series compensation station(s), temporary and permanent access roads, and temporary work areas associated with construction activities.

The Alternative A segment would be 27 miles long, replacing a 23-mile-long segment of the Proposed Action in southeastern Juab County and northeastern Millard County, Utah, to minimize potential impacts to private landowners and their viewsheds in the area near Leamington, Utah, and minimize potential impacts to the Sevier River and agricultural property.The Alternative A segment would deviate from the Proposed Action in eastern Juab County, cross BLM-administered land, and follow the route of the approved TransWest Express ROW until it rejoins the Proposed Action at the line between Juab and Millard Counties. Start-to-finish, the Modified Proposed Action with Alternative A would increase the total length of the route from 214 miles to 218 miles.

The Alternative B segment would be 159 miles long, replacing a 69-mile-long segment of the Proposed Action in central and western Millard County, Utah, to minimize crossings of the Sevier A and Sevier B Military Operating Area (MOAs) (low-level flight training areas) that are part of the Department of Defense's Utah Test and Training Range (UTTR) airspace that overlies BLM-managed lands in Utah.Alternative B would cross into Beaver County, Utah, following identified utility corridors to Milford, Utah, then turn west and north following an identified Section 368 Energy Corridor back to the Proposed Action alignment near the Utah-Nevada state line. Start-to-finish, the Modified Proposed Action with Alternative B would increase the total length of the route from 214 miles to 304 miles.

The Alternative C segment would be 13 miles long, replacing a 7-mile-long segment of the Proposed Action in eastern White Pine County, Nevada, to minimize potential impacts to the culturally sensitive Spring Valley area and Bahsawahbee Traditional Cultural Property (TCP). Alternative C would diverge from the Proposed Action and follow U.S. Highway 6/50 southwest, then follow State Route 893 northwest back to the Proposed Action. Start-to-finish, the Modified Proposed Action with Alternative C would increase the total length of the route from 214 miles to 220 miles.

The Alternative D segment would be 297 miles long, replacing a 145-mile-long segment of the Proposed Action in Millard County, Utah, and eastern White Pine County, Nevada, to avoid areas of Tribal resource concerns in Spring Valley, Nevada. Alternative D would follow the Alternative B route alignment through Beaver County, Utah, then depart from Alternative B shortly after reentering Millard County, Utah. It would then head west, north of the county line, and cross into Lincoln County, Nevada. From there, the route would head west, then southwest to an energy corridor designated in the Ely District Resource Management Plan (RMP) near Atlanta, Nevada. The route would then follow the RMP corridor west and south until it intersects the Section 368 Energy Corridor that contains the existing One Nevada Transmission Line. It would then follow the One Nevada Transmission Line north to the Robinson Summit Substation. Start-to-finish, the Modified Proposed Action with Alternative D would increase the total length of the route from 214 miles to 366 miles.

The BLM has not identified a preferred alternative in the Draft EIS. Instead, input received on the Draft EIS during the public comment period will inform which alternative would be selected as the preferred alternative in the Final EIS.

Mitigation

Applicant-Committed Environmental Protection Measures (ACEPMs) are included as part of the Proposed Action and have been identified to reduce impacts on environmental resources. These measures would apply to all action alternatives. TransCanyon and its contractor(s) would adhere to the ACEPMs identified during the engineering/design phase and to the measures addressing construction, O&M, and decommissioning activities. A full list of the ACEPMs can be found in Appendix A of the Draft EIS, which includes TransCanyon's Plan of Development (POD). The POD is expected to continue to be developed with additional details and potentially additional ACEPMs as the NEPA process progresses, and up through any authorization(s) that may be issued. Additionally, resource sections within the Draft EIS contain additional measures to avoid, minimize, or compensate for impacts to resources. The BLM is also working with state agencies to determine mitigation requirements for impacts to Greater sage-grouse.

Lead and Cooperating Agencies

The BLM serves as the lead federal agency for completing the Draft EIS. The EIS is being prepared by the BLM Fillmore Field Office, in coordination with the Cedar City Field Office in Utah, the BLM Bristlecone Field Office and Caliente Field Office in Nevada, and cooperating agencies. The BLM invited federal and state agencies and State, Tribal, and local governments to serve as cooperating agencies. The following entities accepted the invitation and are participating as cooperating agencies:

• Federal Agencies:

○ Forest Service (Humboldt-Toiyabe National Forest, Ely Ranger District)

○ EPA

○ U.S. Department of Defense (UTTR)

○ U.S. Fish and Wildlife Service

• State Agencies:

○ Utah Public Lands Policy Coordinating Office (with multiple State of Utah entities participating through this office, as noted below)

University of Utah Telescope Array Project

Utah Department of Agriculture and Food

Utah Department of Transportation

Utah Division of Wildlife Resources

Utah Trust Lands Administration

○ Nevada Department of Wildlife

○ Nevada Division of Minerals

○ Nevada Sagebrush Ecosystem Program

○ Nevada State Lands Division Nevada N-4 State Grazing Board

• Local Governments and Agencies:

○ Beaver County, Utah

○ Juab County, Utah

○ Millard County, Utah

○ Lincoln County, Nevada

○ Nye County, Nevada

○ White Pine County, Nevada

○ City of Ely, Nevada

○ Lincoln County Conservation District

• Tribal Governments:

○ Duckwater Shoshone Tribe

○ Te-Moak Tribe of Western Shoshone-Elko Band

Cooperating agency participation may include developing information and preparing analyses, contributing technical expertise to enhance the lead agency's interdisciplinary capabilities, and providing comments for those matters for which it has jurisdiction by law or special expertise. The Tribal governments noted above have elected to participate as cooperating agencies. The cooperating agency relationship established here supplements and is subordinate to the government-to-government relationship between Tribal Nations and the BLM.

Schedule for the Decision-Making Process

The BLM anticipates releasing a Final EIS in August 2024 and anticipates issuing a Record of Decision in December 2024.

Public Involvement Process

On May 2, 2022, the BLM published a Notice of Intent (NOI) to prepare an EIS in the Federal Register (87 Federal Register 25656), announcing the beginning of the public scoping process. While the NOI identified the end date of the scoping period as May 31, 2022, the BLM ultimately extended it until June 1, 2022. Two virtual public scoping meetings were held on May 17 and May 18, 2022. During the scoping period, the BLM received 59 unique submittals totaling 416 discrete comments. The Environmental Impact Statement Scoping Report for the Cross-Tie 500-kV Transmission Project can be found on BLM's ePlanning Project website (see ADDRESSES).

This NOA initiates the Draft EIS review process. The BLM will hold one virtual and up to four in-person public information meetings associated with the Project. Possible in-person meeting locations include: Ely, Nevada, and Delta, Milford, and Nephi, Utah. The specific date(s) and location(s) of these meetings will be announced at least 10 days in advance through news releases, local media, social media, and the BLM's ePlanning Project website (see ADDRESSES). During the public comment period, the BLM will accept comments through email, mail, and hotline.

The BLM will continue to consult with Indian Tribal Nations on a government-to-government basis in accordance with Executive Order 13175, BLM Manual Section 1780, and other Departmental policies. Tribal concerns, including impacts on Indian trust assets and potential impacts to cultural resources, will be given due consideration. Consultation will continue on an individual basis with interested Tribes.

Before including your address, phone number, email address, or other personal identifying information in your comment, you should be aware that your entire comment—including your personal identifying information—may be made publicly available at any time. While you can ask us in your comment to withhold your personal identifying information from public review, we cannot guarantee that we will be able to do so.

(Authority: 40 CFR 1506.6, 40 CFR 1506.10)

Gregory Sheehan,
BLM Utah State Director.

[FR Doc. 2023-24748 Filed 11-8-23; 8:45 am]

BILLING CODE 4331-25-P